DEPARTMENT OF ENERGY

Federal Energy Regulatory Commission

[Docket No. IC12-1-000]

Commission Information Collection Activities (FERC-725F); Comment Request

AGENCY: Federal Energy Regulatory Commission.

ACTION: Comment request.

SUMMARY: In compliance with the requirements of the Paperwork Reduction Act of 1995, 44 U.S.C. 3507(a)(1)(D), the Federal Energy Regulatory Commission (Commission or FERC) is submitting the information collection FERC-725F, “Mandatory Reliability Standards for Nuclear Plant Interface Coordination”, to the Office of Management and Budget (OMB) for review of the information collection requirements. Any interested person may file comments directly with OMB and should address a copy of those comments to the Commission as explained below. The Commission issued a Notice in the Federal Register (76 FR 67158, 10/31/2011) requesting public comments. FERC received no comments on the FERC-725F and is making this notation in its submittal to OMB.

DATES: Comments on the collection of information are due by February 21, 2012.

ADDRESSES: Comments filed with OMB, identified by the OMB Control No. 1902-0249, should be sent via email to the Office of Information and Regulatory Affairs: oira_submission@omb.gov. Attention: Federal Energy Regulatory Commission Desk Officer. The Desk Officer may also be reached via telephone at (202) 395-4718.

A copy of the comments should also be sent to the Federal Energy Regulatory Commission, identified by the Docket No. IC12-1-000, by either of the following methods:

eFiling at Commission's Web site: http://www.ferc.gov/docs-filing/efiling.asp.

Mail/Hand Delivery/Courier: Federal Energy Regulatory Commission, Secretary of the Commission, 888 First Street, NE., Washington, DC 20426.

Instructions: All submissions must be formatted and filed in accordance with submission guidelines at: http://www.ferc.gov/help/submission-guide.asp. For user assistance contact FERC Online Support by e-mail at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION: Ellen Brown may be reached by e-mail at DataClearance@FERC.gov, by telephone at (202) 502-8663, and by fax at (202) 273-0873.

SUPPLEMENTARY INFORMATION: Title: FERC-725F Mandatory Reliability Standards for Nuclear Plant Interface Coordination

OMB Control No.: 1902-0249

Type of Request: Three-year extension of the FERC-725F information collection requirements with no changes to the reporting requirements.

Abstract: The Commission requires the information collected by the FERC-725F to implement the statutory provisions of section 215 of the Federal Power Act (FPA) (16 U.S.C. 824o). On August 8, 2005, the Electricity Modernization Act of 2005, which is Title XII, Subtitle A, of the Energy Policy Act of 2005 (EPAct 2005), was enacted into law.¹ EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.²

¹ Energy Policy Act of 2005, Public Law 109-58, Title XII, Subtitle A, 119 Stat. 594, 941 (2005), 16 U.S.C. 824o.

² 16 U.S.C. 824o(e)(3).

On February 3, 2006, the Commission issued Order No. 672, implementing section 215 of the FPA.³ Pursuant to Order No. 672, the Commission certified one organization, North American Electric Reliability Corporation (NERC), as the ERO. The Reliability Standards developed by the ERO and approved by the Commission apply to users, owners and operators of the Bulk-Power System as set forth in each Reliability Standard.

³ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

On November 19, 2007, NERC filed its petition for Commission approval of the Nuclear Plant Interface Coordination Reliability Standard, designated NUC-001-1. In Order No. 716, issued October 16, 2008, the Commission approved the standard while also directing certain revisions.⁴ Revised Reliability Standard, NUC-001-2, was filed with the Commission by NERC in August 2009 and subsequently approved by the Commission January 21, 2010.⁵

⁴ Mandatory Reliability Standard for Nuclear Plant Interface Coordination, Order No. 716, 125 FERC ¶ 61,065, at P 189 & n.90 (2008), order on reh'g, Order No. 716-A, 126 FERC ¶ 61,122 (2009).

⁵ North American Electric Reliability Corporation, 130 FERC ¶ 61,051 (2010). When the revised Reliability Standard was approved the Commission did not go to OMB for approval. It is assumed that the changes made did not substantively affect the information collection and therefore a formal submission to OMB was not needed.

The purpose of Reliability Standard NUC-001-2 is to require “coordination between nuclear plant generator operators and transmission entities for the purpose of ensuring nuclear plant safe operation and shutdown.” ⁶ The Nuclear Reliability Standard applies to nuclear plant generator operators (generally nuclear power plant owners and operators, including licensees) and “transmission entities,” defined in the Reliability Standard as including a nuclear plant's suppliers of off-site power and related transmission and distribution services. To account for the variations in nuclear plant design and grid interconnection characteristics, the Reliability Standard defines transmission entities as “all entities that are responsible for providing services related to Nuclear Plant Interface Requirements (NPIRs),” and lists eleven types of functional entities (heretofore described as “transmission entities”) that could provide services related to NPIRs.⁷

⁶ See Reliability Standard NUC-001-2 at http://www.nerc.com/files/NUC-001-2.pdf.

⁷ The list of functional entities consists of transmission operators, transmission owners, transmission planners, transmission service providers, balancing authorities, reliability coordinators, planning authorities, distribution providers, load-serving entities, generator owners and generator operators.

Reliability Standard NUC-001-2 requires a nuclear power plant operator and its suppliers of back-up power and related transmission and distribution services to coordinate concerning nuclear licensing requirements for safe nuclear plant operation and shutdown and system operating limits. Information collection requirements include establishing and maintaining interface agreements, including record retention requirements.

Type of Respondents: e.g. nuclear operators, nuclear plants, transmission entities

Estimate of Annual Burden: ⁸ The Commission estimates the Public Reporting Burden for this information collection as:

⁸ Burden is defined as the total time, effort, or financial resources expended by persons to generate, maintain, retain, or disclose or provide information to or for a Federal agency. For further explanation of what is included in the information collection burden, reference 5 Code of Federal Regulations 1320.3.

FERC data collection FERC-725F (OMB Control No. 1902-0249) | Number of respondents annually | Number of responses (Documents) | Average burden hours per response | Total annual burden hours
| (1) | (2) | (3) | (1)*(2)*(3)
New agreements | 10 nuclear operators + 20 transmission entities | 1 | Reporting: 1,080 | Reporting: 32,400
|  |  | Recordkeeping: 108 | Recordkeeping: 3,240
Modifications to agreements | 65 nuclear plants + 130 transmission entities ⁹ | 2 | Reporting: 67 (rounded) | Reporting: 26,000
|  |  | Recordkeeping: 7 (rounded) | Recordkeeping: 2,600
Total | Not applicable (see text for discussion) | Not applicable | Not applicable | 64,240

The Commission estimates the total annual cost burden to respondents as:

⁹ This figure of 130 transmission entities is based on the assumption that each agreement will be between 1 nuclear plant and 2 transmission entities (65 times 2 = 130). However, there is some double counting in this figure because some transmission entities may be party to multiple agreements with multiple nuclear plants. The double counting does not affect the burden estimate and the correct number of unique respondents will be reported to OMB.

• 58,400 Reporting hours × $120/hour ¹⁰ = $7,008,000.

¹⁰ The $120/hour figure is a combined average of legal, technical and administrative staff.

• 5,840 Recordkeeping hours × $28/hour ¹¹ = $163,520 (plus the record storage cost: 143 entities × $15.25/year per entity ¹² = $2,181 (rounded)

¹¹ The $28/hour figure is based on a FERC staff study that included estimating public utility recordkeeping costs.

¹² This is based on the estimated cost to service and store 1 GB of data (based on the aggregated cost of an IBM advanced data protection server).

Total annual cost burden to respondents = $7,173,701.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: January 13, 2012.
Kimberly D. Bose,
Secretary.

[FR Doc. 2012-1070 Filed 1-19-12; 8:45 am]

BILLING CODE 6717-01-P